DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-0361.

Project: Training and Technical Assistance (TTA) Program Monitoring

The Substance Abuse and Mental Health Administration (SAMHSA) will monitor program performance of its Training and Technical Assistance (TTA) programs. The TTAs disseminate current behavioral health services research from the National Institute on Drug Abuse, National Institute on Alcohol Abuse and Alcoholism, National Institute of Mental Health, National Institute of Justice, and other sources, as well as other SAMHSA programs. To accomplish this, the TTA programs develop and update state-of-the-art, research-based curricula and professional development training.

The TTA programs hold a variety of events: technical assistance, meetings, trainings, and presentations. A TTA technical assistance event is defined as a jointly planned consultation generally involving a series of contacts between the TTA and an outside organization/institution during which the TTA provides expertise and gives direction toward resolving a problem or improving conditions. Technical assistance events can be categorized into universal, targeted, and intensive. Other TTA events such as meetings, training, presentations, strategic planning and learning collaboratives are utilized to support technical assistance. These events are TTA-sponsored or co-sponsored events in which a group of people representing one or more agencies other than the TTAs work cooperatively on a project, problem, and/or policy. SAMHSA intends to use three (3) instruments for program monitoring of TTA events as well as ongoing quality improvement, which are described below.

1. TTA Event Description Form (EDF): The EDF collects event information. The form includes 10 questions of TTA faculty/staff relating to the event focus and format. It allows the TTAs and SAMHSA to track the number of events held (See Attachment 1).

2. TTA Post Event Form: The Post Event Form will be administered immediately following the event. The form includes 16 questions of each individual that participated in the event (Attachment 2). The instrument asks the participants to report on general demographic information, principal employment setting, employment zip code, satisfaction with the event, if they expect the event to benefit them professionally, if they expect the event to change their practice and if they would recommend the event to a colleague.

3. TTA Follow-up Form: The Follow-up Form will be administered 60-days after all events that last a minimum of three (3) hours. The form will be administered to a minimum of 25% of participants who consent to participate in the follow-up process. The includes 13 questions (Attachment 3). The instrument asks the participants to report if the information provided in at the event benefited their professional development, will change their practice, if they will use the information in their future work, if information will be shared with colleagues, how the event supported their work responsibilities, how the TTA can improve the events, what other topics participants would like to see TTAs address and in what format.

The information collected on the three TTA forms will assist SAMHSA in documenting the numbers and types of participants in TTA events, describing the extent to which participants report improvement in their professional development, and which method is most effective in disseminating knowledge to various audiences. This type of information is crucial to support SAMHSA in complying with GPRA reporting requirements and will inform future development of knowledge dissemination activities.

The chart below summarizes the annualized burden for this project.

Type of respondent | Number of respondents | Responses per respondent | Total responses | Hours per response | Total annual burden hours | Hourly wage cost | Total hour cost
TTA Faculty/Staff
TTA Event Description Form | 113 | 48 | 5,424 | .16 | 867.84 | $28.89 | $25,071.90
Meeting and Presentations Respondents
TTA Post-Event Form | 300,057 | 1 | 300,057 | .16 | 48,009.00 | 28.89 | 1,386,983.48
TTA Follow-up Form | 13,566 | 1 | 13,566 | .16 | 2,170.56 | 28.89 | 62,707.48
Total | 313,736 |  | 319,047 |  | 51,047.40 |  | 1,474,762.86

Summary Table
Instruments | Number of respondents | Responses per respondents | Annual burden hours
TTA Event Description Form | 113 | 48 | 867.84
TTA Post Event Form | 300,057 | 1 | 48,009.00
TTA Follow up Form | 13,566 | 1 | 2,170.56
Total | 313,736 |  | 51,047.40

Written comments and recommendations concerning the proposed information collection should be sent by June 27, 2025 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Alicia Broadus,
Public Health Advisor.

[FR Doc. 2025-09491 Filed 5-27-25; 8:45 am]

BILLING CODE 4162-20-P